DEPARTMENT OF TRANSPORTATION

Federal Railroad Administration

[Docket Number FRA-2010-0010]

Petition for Waiver of Compliance

In accordance with Part 211 of Title 49 Code of Federal Regulations (CFR), this document provides the public notice that by a document dated July 11, 2011, CSX Transportation (CSX) has petitioned the Federal Railroad Administration (FRA) for reconsideration of a denied waiver of compliance from certain provisions of the Federal railroad safety regulations contained at 49 CFR part 236. FRA has assigned the petition Docket Number FRA-2010-0010 Reconsideration.

The application had been reviewed by the FRA Railroad Safety Board on September 9, 2010, with the decision being that more information was required. CSX was provided, by the FRA Region 3 Regional Office, with a request for the following:

• CSX to address security of dual-tone multiple frequency (DTMF) tones.

• CSX to provide FRA with an understanding of how the bridge closing without visual is safely accomplished.

• CSX to provide the proposed operating instructions of the bridge.

Subsequent to CSX failing to respond to requests for the information, FRA denied the application on February 4, 2011, and considered FRA-2010-0010 closed.

CSX has, in the enclosure to the July 11, 2011, letter, provided the requested information; FRA, therefore, considers Docket Number FRA-2010-0010 opened for reconsideration.

CSX seeks reconsideration of the proposed modification of the bridge tender controlled signals to automatic signals at Big Manatee Drawbridge in Bradenton, Florida, at Milepost AZA 915.8, in the Jacksonville Division, Palmetto Subdivision. The modification consist of the conversion of bridge tender controlled signals to automatic signals.

The reason given for the proposed change is that the drawbridge tender position is being eliminated. Train crews will request that the bridge open and close via DTMF radio. Signals will clear automatically for train movements once the bridge has been closed and locked and an approach circuit is occupied.

A copy of the petition, as well as any written communications concerning the petition, is available for review online at http://www.regulations.gov and in person at the U.S. Department of Transportation's (DOT) Docket Operations Facility, 1200 New Jersey Avenue, SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received by October 14, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or at http://www.dot.gov/privacy.html.

Issued in Washington, DC on August 23, 2011.
Robert C. Lauby,
Deputy Associate Administrator for Regulatory and Legislative Operations.

[FR Doc. 2011-22053 Filed 8-29-11; 8:45 am]

BILLING CODE 4910-06-P